DEPARTMENT OF TRANSPORTATION

Federal Aviation Administration

14 CFR Part 71

[Docket No. FAA-2022-1161; Airspace Docket No. 22-ASO-18]

RIN 2120-AA66

Amendment of Class D and Class E Airspace; Greenville, Spartanburg, and Greer, SC

AGENCY: Federal Aviation Administration (FAA), DOT.

ACTION: Final rule; correction.

SUMMARY: This action corrects an error in the final rule published in the Federal Register on March 28, 2023, amending Class D airspace, Class E surface airspace, and Class E airspace in the Greenville, Spartanburg, and Greer, SC areas.

DATES: Effective 0901 UTC, August 10, 2023. The Director of the Federal Register approves this incorporation by reference action under 1 CFR part 51, subject to the annual revision of FAA Order JO 7400.11 and publication of conforming amendments.

FOR FURTHER INFORMATION CONTACT: John Fornito, Operations Support Group, Eastern Service Center, Federal Aviation Administration, 1701 Columbia Avenue, College Park, GA 30337; Telephone: (404) 305-6364.

SUPPLEMENTARY INFORMATION:

History

The FAA published a final rule in the Federal Register (88 FR 18241, March 28, 2023) for Doc. No. FAA-2022-1161, amending Class D airspace, Class E surface area, and Class E airspace extending upward from 700 feet above the surface of the Greenville, Spartanburg, and Greer, SC areas. This action removes the airport name (Greenville-Spartanburg International Airport) from the first line of the E2 descriptor for Greenville-Spartanburg International Airport. The header will now read ASO SC E2 Greer, SC. In addition, this action replaces the reference to Greenville-Spartanburg International Airport with the term Greer in the airspace descriptions.

Class D and Class E airspace designations are published in Paragraphs 5000, 6002, and 6005 of FAA Order JO 7400.11G dated August 19, 2022, and effective September 15, 2022, which is incorporated by reference in 14 CFR 71.1. The Class D and E airspace designations listed in this document will subsequently be published in FAA Order JO 7400.11G.

Correction to the Final Rule

Accordingly, pursuant to the authority delegated to me, the amendment of Class D airspace and Class E surface airspace published in the Federal Register of March 28, 2023 (88 FR 18241) for Doc. No. FAA-2022-1161, is corrected as follows:

§ 71.1 [Corrected]

1. On page 18242, in column 3 under the Airspace Classification “Paragraph 5000. Class D Airspace.”, revise the airspace headings and descriptions to read:

Paragraph 5000 Class D Airspace.

* * * * *

ASO SC D Greenville, SC [Amended]

Greenville Downtown Airport, SC

(Lat. 34°50′53″ N, long. 82°21′00″ W)

That airspace extending upward from the surface to and including 3,500 feet MSL within a 4.5-mile radius of Greenville Downtown Airport, excluding that airspace within the Greer, Class C airspace area. This Class D airspace area is effective during the specific days and times established in advance by a Notice to Air Missions. The effective days and times will thereafter be continuously published in the Chart Supplement.

ASO SC D Greenville Donaldson Field Airport, SC [Amended]

Greenville, Donaldson Field Airport, SC

(Lat. 34°45′30″ N, long. 82°22′35″ W)

Greenville Downtown Airport

(Lat. 34°50′53″ N, long. 82°21′00″ W)

That airspace extending upward from the surface to and including 3,500 feet MSL within a 4.2-mile radius of Donaldson Field Airport, excluding that airspace within the Greenville Downtown Airport Class D airspace area and excluding that airspace within the Greer Class C airspace area. This Class D airspace area is effective during the specific dates and times established in advance by a Notice to Air Missions. The effective date and time will thereafter be continuously published in the Chart Supplement.

2. On pages 18242 and 18243, beginning in column 3 on page 18242, under the Airspace Classification “Paragraph 6002. Class E Surface Airspace.” revise the airspace headings and descriptions to read:

Paragraph 6002 Class E Surface Airspace.

* * * * *

ASO SC E2 Greer, SC [Amended]

Greenville-Spartanburg International Airport, SC

(Lat. 34°53′44″ N, long. 82°13′08″ W)

That airspace extending upwards from the surface within a 5-mile radius of the Greenville-Spartanburg International Airport. This Class E airspace area is effective during the specific dates and times established in advance by a Notice to Air Missions. The effective date and time will thereafter be continuously published in the Chart Supplement.

ASO SC E2 Spartanburg, SC [Amended]

Spartanburg Downtown Memorial Airport/Simpson Field, SC

(Lat. 34°54′59″ N, long. 81°57′21″ W)

Spartanburg VORTAC

(Lat. 35°02′01″ N, long. 81°55′37″ W)

That airspace extending upwards from the surface within a 4.3-mile radius of Spartanburg Downtown Memorial Airport/Simpson Field and within 1.8 miles each side of Spartanburg VORTAC 192° radial, extending from the 4.3-mile radius to the VORTAC, excluding the portion within the Greer, SC, Class C airspace area. This Class E airspace area is effective during the specific dates and times established in advance by a Notice to Air Missions. The effective date and time will thereafter be continuously published in the Chart Supplement.

Issued in College Park, Georgia, on May 4, 2023.
Lisa E. Burrows,
Manager, Airspace & Procedures Team North, Eastern Service Center, Air Traffic Organization.

[FR Doc. 2023-09844 Filed 5-24-23; 8:45 am]

BILLING CODE 4910-13-P